NATIONAL AERONAUTICS AND SPACE ADMINISTRATION

[Notice (20-006)]

Notice of Intent To Grant Partially Exclusive License

AGENCY: National Aeronautics and Space Administration.

ACTION: Notice of intent to grant partially exclusive patent license.

SUMMARY: NASA hereby gives notice of its intent to grant a partially exclusive patent license in the United States to practice the inventions described and claimed in U.S. Patent No. 8,167,204 B2 for an invention entitled “Wireless Damage Location Sensing System,” NASA Case Number LAR-17593-1; U.S. Patent No. 7,086,593 B2 for an invention entitled “Magnetic Field Response Measurement Acquisition System,” NASA Case Number LAR-16908-1; U.S. Patent No. 7,159,774 B2 for an invention entitled “Magnetic Field Response Measurement Acquisition System,” NASA Case Number LAR-17280-1; U.S. Patent No. 8,430,327 B2 for an invention entitled “Wireless Sensing System Using Open-Circuit, Electrically-Conductive Spiral-Trace Sensor,” NASA Case Number LAR-17294-1; U.S. Patent No. 8,042,739 B2 for an invention entitled “Wireless Tamper Detection Sensor and Sensing System,” NASA Case Number LAR-17444-1; U.S. Patent No. 7,814,786 B2 for an invention entitled “Wireless Sensing System for Non-Invasive Monitoring of Attributes of Contents in a Container,” NASA Case Number LAR-17488-1; U.S. Patent No. 8,673,649 B2 for an invention entitled “Wireless Chemical Sensor and Sensing Method for Use Therewith,” NASA Case Number LAR-17579-1; U.S. Patent No. 9,329,149 B2 for an invention entitled “Wireless Chemical Sensor and Sensing Method for Use Therewith,” NASA Case Number LAR-17579-2; U.S. Patent No. 9,733,203 B2 for an invention entitled “Wireless Chemical Sensing Method,” NASA Case Number LAR-17579-3; U.S. Patent No. 8,179,203 B2 for an invention entitled “Wireless Electrical Device Using Open-Circuit Elements Having No Electrical Connections,” NASA Case Number LAR-17711-1; and U.S. Patent No. 10,193,228 B2 for an invention entitled “Antenna for Near Field Sensing and Far Field Transceiving,” NASA Case Number LAR-18400-1, to Gyra Systems, Inc., having its principal place of business in La Mesa, CA. The fields of use may be limited to package monitoring quality sensors to detect changes in product quality and authenticity, such as pharmaceutical, food, beverage, tobacco, and cosmetics products and/or similar field(s) of use thereto. NASA has not yet made a determination to grant the requested license and may deny the requested license even if no objections are submitted within the comment period.

DATES: The prospective partially exclusive license may be granted unless NASA receives written objections including evidence and argument, no later than February 14, 2020 that establish that the grant of the license would not be consistent with the requirements regarding the licensing of federally owned inventions as set forth in the Bayh-Dole Act and implementing regulations. Competing applications completed and received by NASA no later than February 14, 2020 will also be treated as objections to the grant of the contemplated [partially] exclusive license. Objections submitted in response to this notice will not be made available to the public for inspection and, to the extent permitted by law, will not be released under the Freedom of Information Act.

ADDRESSES: Objections relating to the prospective license may be submitted to Patent Counsel, Office of Chief Counsel, NASA Langley Research Center, MS 30, Hampton, Virginia 23681. Phone (757) 864-3221. Facsimile (757) 864-9190.

FOR FURTHER INFORMATION CONTACT: Robin W. Edwards, Patent Counsel, Office of Chief Counsel, NASA Langley Research Center, MS 30, Hampton, Virginia 23681. Phone (757) 864-3221. Facsimile (757) 864-9190.

SUPPLEMENTARY INFORMATION: This notice of intent to grant a partially exclusive patent license is issued in accordance with 35 U.S.C. 209(e) and 37 CFR 404.7(a)(1)(i). The patent rights in these inventions have been assigned to the United States of America as represented by the Administrator of the National Aeronautics and Space Administration. The prospective partially exclusive license will comply with the requirements of 35 U.S.C. 209 and 37 CFR 404.7.

Information about other NASA inventions available for licensing can be found online at http://technology.nasa.gov.

William McMurry,
Deputy General Counsel.

[FR Doc. 2020-01712 Filed 1-29-20; 8:45 am]

BILLING CODE 7510-13-P